DEPARTMENT OF HEALTH AND HUMAN SERVICES

National Institutes of Health

Office of the Director, National Insitutes of Health; Notice of Meeting

Notice is hereby given of a meeting of the HEAL (Helping to End Addiction Long-term) Multi-Disciplinary Working Group

The meeting will be open to the public as indicated below, with attendance limited to space available. Individuals who plan to attend and need special assistance, such as sign language interpretation or other reasonable accommodations, should notify the Contact Person listed below in advance of the meeting.

The meeting will be closed to the public in accordance with the provisions set forth in section 552b(c)(6), Title 5 U.S.C., as amended. The program documents and the discussions could disclose confidential trade secrets or commercial property such as patentable material, and personal information concerning individuals associated with the program documents, the disclosure of which would constitute a clearly unwarranted invasion of personal privacy.

Name of Committee: HEAL Multi-Disciplinary Working Group Meeting.

Date: March 18, 2020.

Open: March 18, 2020, 8:30 a.m. to 10:30 a.m.

Closed: March 18, 2020, 10:30 a.m. to 3:20 p.m.

Open: March 18, 2020, 3:20 p.m. to 4:00 p.m.

Agenda: Provide an update on Helping to End Addiction Long-Term (HEAL) Initiatives and obtain expertise from the MDWG relevant to the NIH HEAL Initiative and to specific HEAL projects.

Videocast: For those not able to attend in person, this meeting will be live webcast at: https://videocast.nih.gov/.

Place: National Institutes of Health, Building 1, Wilson Hall, 1 Center Drive, Bethesda, MD 20892.

Contact Person: Rebecca G. Baker, Ph.D., Office of the Director, National Institutes of Health, 1 Center Drive, Room 103A, Bethesda, MD 20892, (301) 402-1994, Rebecca.baker@nih.gov.

This notice is being published less than 15 days prior to the meeting due to the timing limitations imposed by the program.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Office of the Director for the NIH HEAL Initiative home page: https://www.nih.gov/research-training/medical-research-initiatives/heal-initiative where an agenda and any additional information for the meeting will be posted when available.

(Catalogue of Federal Domestic Assistance Program Nos. 93.853, Clinical Research Related to Neurological Disorders; 93.854, Biological Basis Research in the Neurosciences, National Institutes of Health, HHS)

Dated: March 9, 2020.
Tyeshia M. Roberson,
Program Analyst, Office of Federal Advisory Committee Policy.

[FR Doc. 2020-05098 Filed 3-12-20; 8:45 am]

BILLING CODE 4140-01-P